DEPARTMENT OF HOMELAND SECURITY

Coast Guard

[Docket No. USCG-2023-0926]

National Offshore Safety Advisory Committee; Vacancies

AGENCY: Coast Guard, Department of Homeland Security.

ACTION: Notice; request for applications.

SUMMARY: The U.S. Coast Guard is accepting applications to fill three vacancies on the National Offshore Safety Advisory Committee (Committee). This Committee advises the Secretary of Homeland Security, via the Commandant of the U.S. Coast Guard on matters relating to activities directly involved with, or in support of, the exploration of offshore mineral and energy resources, to the extent that such matters are within the jurisdiction of the U.S. Coast Guard.

DATES: Completed applications must reach the U.S. Coast Guard on or before April 22, 2024.

ADDRESSES: Applications must include: (a) a cover letter expressing interest in an appointment to the National Offshore Safety Advisory Committee, (b) a resume detailing the applicant's relevant experience for the position applied for, and (c) a brief biography. Applications should be submitted via email with subject line “NOSAC Vacancy Application” to Patrick.W.Clark@uscg.mil.

FOR FURTHER INFORMATION CONTACT: Mr. Patrick Clark, Designated Federal Officer of the National Offshore Safety Advisory Committee; telephone 571-607-8236 or email at Patrick.W.Clark@uscg.mil.

SUPPLEMENTARY INFORMATION: The National Offshore Safety Advisory Committee is a Federal advisory committee. The Committee was established on December 4, 2018, by section 601 of the Frank LoBiondo Coast Guard Authorization Act of 2018 (Pub. L. 115-282, 132 Stat. 4192), and amended by section 8331 of the Elijah E. Cummings Coast Guard Authorization Act of 2020 (Pub. L. 116-283, 134 Stat. 4702) and is codified in 46 U.S.C. 15106. The Committee operates under the provisions of the Federal Advisory Committee Act (5 U.S.C. ch. 10) and 46 U.S.C. 15109. The Committee provides advice and recommendations to the Secretary of Homeland Security on matters relating to activities directly involved with, or in support of, the exploration of offshore mineral and energy resources, to the extent that such matters are within the jurisdiction of the U.S. Coast Guard.

The Committee is required to meet at least once a year in accordance with 46 U.S.C. 15109(a). We expect the Committee to meet at least twice a year, but it may meet more frequently. The meetings are generally held in Houston, Texas and New Orleans, Louisiana.

Under provisions in 46 U.S.C. 15109(f)(6), if you are appointed as a member of the Committee, your membership term will expire on December 31st of the third full year after the effective date of your appointment. The Secretary of Homeland Security may require an individual to have passed an appropriate security background examination before appointment to the Committee, 46 U.S.C. 15109(f)(4).

All members serve at their own expense and receive no salary or other compensation from the Federal Government. If you are appointed as a member of the Committee, you will be required to sign a Non-Disclosure Agreement and a Gratuitous Services Agreement.

In this solicitation for Committee Members, we will consider applications for the following three positions:

• One member representing entities engaged in offshore oil exploration and production on the Outer Continental Shelf adjacent to Alaska.

• One member representing entities engaged in offshore drilling (one of two positions in this category is open).

• One member representing entities engaged in the construction of offshore facilities on the U.S. Outer Continental Shelf.

The members who will fill the positions described above will be appointed to represent the interest of their respective groups and viewpoints and are not Special Government Employees as defined in 18 U.S.C. 202(a).

In order for the Department, to fully leverage broad-ranging experience and education, the National Offshore Safety Advisory Committee must be diverse with regard to professional and technical expertise. The Department is committed to pursuing opportunities, consistent with applicable law, to compose a committee that reflects the diversity of the Nation's people.

If you are interested in applying to become a member of the Committee, email your application to Patrick.W.Clark@uscg.mil as provided in the ADDRESSES section of this notice. Applications must include: (a) a cover letter expressing interest in an appointment to the National Offshore Safety Advisory Committee, (b) a resume detailing the applicant's relevant experience for the position applied for, and (c) a brief biography of the applicant by the deadline in the DATES section of this notice.

The U.S. Coast Guard will not consider incomplete or late applications.

Dated: February 13, 2024.
Jeffrey G. Lantz,
Director of Commercial Regulations and Standards.

[FR Doc. 2024-03368 Filed 2-16-24; 8:45 am]

BILLING CODE 9110-04-P